NATIONAL CREDIT UNION ADMINISTRATION

12 CFR Part 703

Investment and Deposit Activities

CFR Correction

In Title 12 of the Code of Federal Regulations, Parts 600 to 899, revised as of January 1, 2019, on page 700, in § 703.114, remove paragraph (3) that appears below paragraph (d).

[FR Doc. 2019-27403 Filed 12-17-19; 8:45 am]

BILLING CODE 1301-00-D